DEPARTMENT OF LABOR

Office of the Secretary; “Promotion of Labor Rights and Employment in Pakistan”

June 17, 2009.

AGENCY: Bureau of International Labor Affairs, Department of Labor.

Announcement Type: New. Notice of Availability of Funds and Solicitation for Cooperative Agreement Applications. The full announcement is posted on http://www.Grants.gov.

Funding Opportunity Number: SGA-09-07.

Key Dates: The closing date for receipt of applications is July 31, 2009 via Grants.gov. Applications may also be submitted by mail.

Funding Opportunity Description

The U.S. Department of Labor (USDOL), Bureau of International Labor Affairs (ILAB), announces the availability of funds in the amount of U.S. $1,600,000 to be awarded by Cooperative Agreement to a qualifying organization for the purpose of implementing a worker rights and employment demonstration project that assists unemployed Pakistanis with vocational and entrepreneurial training to obtain employment or pursue professions and acquire an understanding of their fundamental rights as workers. The project will take place in the Federally Administered Tribal Areas, the Northwest Frontier Province and Baluchistan. Participants provided with vocational training will also receive integrated worker rights training in order to ensure that they are able to fully benefit from their new skills and professions. Similarly, new entrepreneurs may become employers for the first time and will also receive worker rights training to understand their responsibilities as employers. ILAB is authorized to award and administer this program by the Department of Labor Appropriations Act, 2009, Public Law 111-08, 123 Stat. 524 (2009). The Cooperative Agreement awarded under this initiative will be managed by ILAB's Office of Trade and Labor Affairs. The duration of the project funded by this solicitation is three years. The start date of program activities will be negotiated upon award of the Cooperative Agreement, but will be no later than September 30, 2009.

The full Solicitation for Grant Applications is posted on http://www.Grants.gov under U.S. Department of Labor/ILAB. If you need to speak to a person concerning these grants, or if you have issues regarding access to the Grants.gov Web site, you may telephone Georgiette Nkpa at 202-693-4584 (not a toll-free number).

Signed at Washington, DC this 17th day of June 2009.
Cassandra Mitchell,
Grant Officer.

[FR Doc. E9-14648 Filed 6-22-09; 8:45 am]

BILLING CODE 4510-28-P